DEPARTMENT OF THE INTERIOR

Office of the Secretary

National Satellite Land Remote Sensing Data Archive (NSLRSDA) Advisory Committee; Notice of Reestablishment

This notice is published in accordance with section 9(a)(2) of the Federal Advisory Committee Act (Public Law 92-463), 5 U.S.C. App. (1988). Following consultation with the General Services Administration, notice is hereby given that the Secretary of the Interior is reestablishing the National Satellite Land Remote Sensing Data Archive (NSLRSDA) Advisory Committee. The NSLRSDA was established by Congress in the Land Remote Sensing Policy Act of 1992, Public Law 102-555, 15 U.S.C. 5601.

The purpose of the Committee is to advise the U.S. Geological Survey (USGS), Earth Resources Observation Systems (EROS) Data Center (EDC), on guidelines or rules relating to the NSLRSDA archival data deposit, maintenance, and preservation as well as access management policies and procedures. The Committee will be responsible for providing advice and consultation on a broad range of technical and policy topics in guiding development of NSLRSDA.

In order for the Secretary to be advised by a broad spectrum of remote sensing data users and producers, committee membership will be composed of 15 members, as follows: Two from academia, with one laboratory researcher-data user and one classroom educator-data user; four from government, with two Federal data users and two State/local data users; four from industry, with two licensed data providers, one value-added industruy provider, and one commercial industry provider; and five others, with one non-USA representative and four non-affiliated Individuals at-large from any sector. Expertise in information science, natural science, social science, and policy/law are represented within the sectors listed above.

The Committee will function solely as an advisory body and in compliance with the provisions of the Federal Advisory Committee Act. The Charter will be filed under the Act, 15 days from the date of publication of this notice.

Further information regarding the NSLRSDA Advisory Committee may be obtained from the Director, USGS, Department of the Interior, 12201 Sunrise Valley Drive, Reston, Virginia, 20192. Certification of reestablishment is published below.

Certification

I hereby certify that the reestablishment of the National Satellite Land Remote Sensing Data Archive Advisory Committee is necessary and in the public interest in connection with the performance of duties by the Department of the Interior mandated pursuant to the Land Remote Sensing Policy Act of 1992, Public Law 102-555, 15 U.S.C. 5601.

Dated: May 19, 2004.
Gale A. Norton,
Secretary of the Interior.

[FR Doc. 04-12363 Filed 5-28-04; 8:45 am]

BILLING CODE 4310-10-M